DEPARTMENT OF ENERGY

Federal Energy Regulatory Commission

[Docket No. CP98-150-002]

Millennium Pipeline Company, L.P.; Notice of Date Change of the Scoping Meeting for the Proposed Millennium Pipeline Project, as Amended, and Extension of Time To File Comments

August 16, 2000.

To accommodate the Village Manager and Village Board of Croton-on-Hudson, New York, the date for the scoping comment meeting for the proposed Millennium Pipeline Project amendment filed in the above-referenced docket, has been changed. The location and time for this meeting are listed below:

Date and Time: September 14, 2000, 7 p.m.

Location: Croton-on-Hudson Municipal Building, Van Wyck Street, Croton-on-Hudson, New York; 914-271-4781.

There is no change to the date for the planned site visit along the proposed route which will occur on August 29 through 31, 2000.

Since the new date for the scoping meeting falls outside the comment period identified in the Notice of Intent to Prepare a Supplement to the Draft Environmental Impact Statement (dated August 9, 2000), the comment period has been extended from September 8, 2000 to September 22, 2000.

Additional information may be obtained from Paul McKee in the Commission's Office of External Affairs, at (202) 208-1088.

David P. Boergers,
Secretary.

[FR Doc. 00-21297 Filed 8-21-00; 8:45 am]

BILLING CODE 6717-01-M